DEPARTMENT OF THE INTERIOR

[Docket No. ONRR-2014-0002; DS63610000 DR2PS0000.CH7000 145D0102R2]

Office of Natural Resources Revenue; Agency Information Collection Activities: Proposed Collection-United States Extractive Industries Transparency Initiative (USEITI) Revenue Information Collection, Comment Request

AGENCY: Office of Natural Resources Revenue (ONRR), Interior.

ACTION: Notice of a new information collection.

SUMMARY: To comply with the Paperwork Reduction Act of 1995 (PRA), we are inviting comments on an information request that we will submit to the Office of Management and Budget (OMB) for review and approval. This Information Collection Request (ICR) covers the voluntary paperwork requirements for participation in the United States' implementation of the Extractive Industries Transparency Initiative (EITI). It encompasses upcoming requests that certain companies voluntarily provide information on the amount of revenue which they have paid to the Federal government for extracting Federally-owned natural resources.

DATES: Submit written comments on or before February 17, 2015.

ADDRESSES: You may submit comments on this ICR to ONRR by using one of the following three methods (please use ONRR 2014-0002 as an identifier in your comment):

1. Electronically, go to http://www.regulations.gov. In the entry titled “Enter Keyword or ID,” enter ONRR-2014-0002 and then click “Search.” Follow the instructions to submit public comments. ONRR will post all comments.

2. Mail comments to Mr. Luis Aguilar, Regulatory Specialist, ONRR, P.O. Box 25165, MS 61030A, Denver, Colorado 80225-0165.

3. Hand-carry or mail comments, using an overnight courier service, to ONRR. Our courier address is Building 85, Room A-614, Denver Federal Center, West 6th Ave. and Kipling St., Denver, Colorado 80225.

FOR FURTHER INFORMATION CONTACT: For questions on technical issues, contact Mr. Jon Swedin, Program Analyst, at (303) 231-3028, or email Jonathan.Swedin@onrr.gov. For other questions, contact Mr. Luis Aguilar, telephone (303) 231-3418, or email Luis.Aguilar@onrr.gov. You may also contact Mr. Aguilar to obtain copies, at no cost, of (1) the ICR, (2) any associated form, and (3) the regulations that require us to collect the information.

SUPPLEMENTARY INFORMATION: Title: United States Extractive Industries Transparency Initiative (USEITI) Revenue Information Collection.

OMB Control Number: 1012—0NEW.

Bureau Form Number: United States Extractive Industries Transparency Initiative (USEITI) Company Payment Reporting Template.

Abstract: The Secretary of the U.S. Department of the Interior is responsible for mineral resource development on Federal and Indian lands and the Outer Continental Shelf (OCS). Under various laws, the Secretary's responsibility is to manage mineral resources production on Federal and Indian lands and the OCS, collect the royalties and other mineral revenues due, and distribute the funds collected under those laws. ONRR performs the royalty management functions and assists the Secretary in carrying out the Department's responsibility. We have posted those laws pertaining to mineral leases on Federal and Indian lands and the OCS at http://www.onrr.gov/Laws_R_D/PubLaws/default.htm.

In September 2011, President Obama announced the U.S. commitment to domestic implementation of EITI, a key element of the President's Open Government Partnership commitments. President Obama appointed the Secretary of the Interior as the senior U.S. official to lead USEITI implementation. EITI is a voluntary global effort designed to strengthen transparency, accountability, and public trust for the revenues paid and received for a country's oil, gas, and mineral resources. The Administration renewed its commitment to implement EITI in the December 2013 U.S. Open Government National Action Plan. By signing onto the global EITI standard, the U.S. Government will help ensure that American taxpayers are receiving every dollar due for the extraction of these valuable public resources. The EITI Standard contains the set of requirements that countries need to meet in order to be recognized first as an EITI Candidate and, ultimately, an EITI-Compliant Country. In March 2014, the U.S. became the first G7 country to achieve Candidate Country status. When fully implemented, EITI will ensure more transparency in how the country's natural resources are governed and also will provide full disclosure of government revenues from its extractive sector.

The following laws and executive initiative are applicable to USEITI, including the Secretary's and ONRR's management of mineral resource production, revenue, and information disclosure obligations:

• U.S. Open Government National Action Plan

• Freedom of Information Act, as amended (5 U.S.C. 552)

• Outer Continental Shelf Lands Act, as amended (43 U.S.C. 1331-56b), including provisions of the Energy Policy Act of 2005 (42 U.S.C. 15801 et seq.)

• Federal Oil and Gas Royalty Management Act of 1982 as amended by the Federal Oil and Gas Royalty Simplification and Fairness Act of 1996 (30 U.S.C. 1701-1759).

• Geothermal Steam Act of 1970 (30 U.S.C. 1001-28)

• Mineral Leasing Act (30 U.S.C. 181-287)

• Mineral Leasing Act for Acquired Lands (30 U.S.C. 351-60)

General Information

International EITI requirements direct participating governments to publish annual reports to help citizens understand how governments manage their extractive sectors. The U.S. Open Government National Action Plan commits the U.S. to publish the first United States EITI report in 2015 and to achieve EITI compliance in 2016. An Independent Administrator produces the annual reports, which include parallel public disclosures by both the government and companies, of the payments that companies have made to the government on their oil, gas, and mining development. In order to produce the USEITI annual reports, the Independent Administrator will collect revenue information from extractive companies who meet payment thresholds. The requested information will include the amounts of royalties, rentals, and other payments related to mineral development that companies have made to the Federal Government. The Independent Administrator will not collect items of a sensitive nature such as proprietary data, Personally Identifiable Information, etc. EITI is a voluntary initiative, and companies are not required to provide the requested information.

OMB Approval

We will request OMB approval to collect this information. If the Secretary does not collect this information, the United States will not become an EITI Compliant Country, limiting the Secretary's ability to provide more transparency in how the country's natural resources are governed, including better transparency on our country's revenue collection process.

Frequency: Annually.

Estimated Number and Description of Respondents: 76 extractive companies who meet annual revenue payment thresholds.

Estimated Annual Reporting and Recordkeeping “Hour” Burden for the 76 extractive companies who meet annual revenue payment thresholds: 5,776 hours.

Estimated Annual Reporting and Recordkeeping “Non-hour” Cost Burden: We have not identified a “non-hour” cost burden associated with the collection of information.

We have not included in our estimates certain requirements performed in the normal course of business, considered as usual and customary.

Public Disclosure Statement: The PRA (44 U.S.C. 3501 et seq.) provides that an agency may not conduct or sponsor, and a person is not required to respond to, a collection of information unless it displays a currently valid OMB control number.

Comments: Before submitting an ICR to OMB, PRA Section 3506(c)(2)(A) requires each agency to “* * * provide 60-day notice in the Federal Register * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information collected; and (d) minimize the burden on the respondents, including the use of automated collection techniques or other forms of information technology.

The PRA also requires agencies to estimate the total annual reporting “non-hour cost” burden to respondents or recordkeepers resulting from the collection of information. If you have costs to generate, maintain, and disclose this information, you should comment and provide your total capital and startup cost components or annual operation, maintenance, and purchase of service components. You should describe the methods that you use to estimate (1) major cost factors, including system and technology acquisition, (2) expected useful life of capital equipment, (3) discount rate(s), and (4) the period over which you incur costs. Capital and startup costs include, among other items, computers and software that you purchase to prepare for collecting information and monitoring, sampling, and testing equipment, and record storage facilities. Generally, your estimates should not include equipment or services purchased: (i) Before October 1, 1995; (ii) to comply with requirements not associated with the information collection; (iii) for reasons other than to provide information or keep records for the Federal Government; or (iv) as part of customary and usual business, or private practices.

We will summarize written responses to this notice and address them in our ICR submission for OMB approval, including appropriate adjustments to the estimated burden. We will provide a copy of the ICR to you, without charge, upon request. We also will post the ICR at http://www.onrr.gov/Laws_R_D/FRNotices/FRInfColl.htm.

Public Comment Policy: ONRR will post all comments, including names and addresses of respondents at http://www.regulations.gov. Before including Personally Identifiable Information (PII), such as your address, phone number, email address, or other personal information in your comment(s), you should be aware that your entire comment (including PII) may be made available to the public at any time. While you may ask us, in your comment, to withhold PII from public view, we cannot guarantee that we will be able to do so.

Dated: December 11, 2014.
Kristen Sarri,
Principal Deputy Assistant Secretary, Policy, Management and Budget.

[FR Doc. 2014-29657 Filed 12-17-14; 8:45 am]

BILLING CODE 4335-30-P